DEPARTMENT OF DEFENSE

Department of the Army

[Docket ID: USA-2010-0012]

Privacy Act of 1974; System of Records

AGENCY: Department of the Army, DoD.

ACTION: Notice to amend a system of records.

SUMMARY: The Department of the Army is proposing to amend a system of records notice in its existing inventory of records systems subject to the Privacy Act of 1974, (5 U.S.C. 552a), as amended.

DATES: The changes will be effective on June 14, 2010, unless comments are received that would result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: The Department of the Army systems of records notices subject to the Privacy Act of 1974, (5 U.S.C. 552a), as amended, have been published in the Federal Register and are available from the Department of the Army, Privacy Office, U.S. Army Records Management and Declassification Agency, 7701 Telegraph Road, Casey Building, Suite 144, Alexandria, VA 22325-3905.

The specific changes to the records system being amended are set forth below followed by the notice, as amended, published in its entirety. The proposed amendments are not within the purview of subsection (r) of the Privacy Act of 1974, (5 U.S.C. 552a), as amended, which requires the submission of a new or altered system report.

Dated: June 9, 2010.
Mitchell S. Bryman,
Alternate OSD Federal Register Liaison Officer, Department of Defense.

A0385-10/40 ASO

System name:

Army Safety Management Information System (ASMIS) (September 6, 2007; 72 FR 51215).

Changes:

* * * * *

Retrievability:

Delete entry and replace with “Data from accident prevention studies is retrieved by name, Social Security Number (SSN), age, or gender. Accident and incident case records are retrieved by date of incident, location of incident, or type of equipment involved.”

* * * * *

Notification procedure:

Delete entry and replace with “Individuals seeking to determine whether information about themselves is contained in this system should address written inquiries to the appropriate system manager.

Individual must furnish his/her full name, Social Security Number (SSN), current address and telephone number, when and where the accident occurred, type of equipment involved in the accident, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

Record access procedures:

Delete entry and replace with “Individuals seeking access to information about themselves contained in this system should address written inquiries to the appropriate system manager.

Individual must furnish his/her full name, Social Security Number (SSN), current address and telephone number, when and where the accident occurred, type of equipment involved in the accident, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.”

* * * * *

A0385-10/40 ASO

System name:

Army Safety Management Information System (ASMIS).

System location:

U.S. Army Combat Readiness Center (USACRC), 4905 5th Avenue, Fort Rucker, AL 36362-5363, and the U.S. Army Center for Health Promotion and Preventive Medicine (USACHPPM), 5158 Blackhawk Road, Aberdeen Proving Ground, MD 21010-5403.

U.S. Army Corps of Engineers (USACE): Chief, Safety and Occupational Health Office, Headquarters, U.S. Army Corps of Engineers, 441 G Street NW, Washington, DC 20314-1000, and all U.S. Army Corps of Engineers Safety and Occupational Health Offices. Official mailing addresses are published as an Appendix to the Army's compilation of systems of records notices.

Categories of individuals covered by the system:

Individuals (includes contractors, volunteer personnel, and members of the public) involved in accidents incident to Army and USACE operations and recreational facilities and DoD personnel who perform risk assessments prior to travel for leave, pass or other purpose (may include civilian and military personnel from the Army, Air Force, Navy, Marine Corps and Coast Guard).

Categories of records in the system:

Records related to Army accidents and risk assessments include name of injured individual, name of individual performing risk assessment, Social Security Number (SSN), age, gender, pay grade, job title, start point and destination of travel, travel dates, personal protective equipment usage, alcohol and medication usage, sleep and rest plans, leave or pass address and phone number date of injury, location of accident, activity at time of injury, type of injury, board findings, recommendations, witness statements, wreckage distribution diagrams, maintenance and material data, and other personal and accident related and environmental information.

Authority for maintenance of the system:

10 U.S.C. 3013, Secretary of the Army; 5 U.S.C. 7902, Safety Programs; Pub. L. 91-596, Occupational Safety and Health Act of 1970; DoD Instruction 6055.1, DoD Safety and Occupational Health Program; Army Regulations 385-10, Army Safety Program; Army Regulation 385-40, Accident Reporting and Records; and E.O. 9397 (SSN), as amended.

Purpose(s):

Information will be used to monitor and facilitate the U.S. Army's and the USACE Safety and Occupational Health Offices' safety programs; to analyze accident experience and exposure information; to analyze and correlate relationships between planned actions and resultant accidents; and to support the Army's accident prevention efforts. Information will also be used to support DoD accident prevention efforts through travel risk assessments conducted by DoD personnel prior to travel for leave, pass or other purpose (may include civilian and military personnel from the Army, Air Force, Navy, Marine Corps and Coast Guard).

Routine uses of records maintained in the system, including categories of users and the purposes of such uses:

In addition to those disclosures generally permitted under 5 U.S.C. 552a(b) of the Privacy Act of 1974, these records or information contained therein may specifically be disclosed outside the DoD as a routine use pursuant to 5 U.S.C. 552a(b)(3) as follows:

To the Department of Labor, the Federal Aviation Agency, the National Transportation Safety Board, and to Federal, State, and local agencies, and applicable civilian organizations, such as the National Safety Council, for use in a combined effort of accident prevention.

In some cases, data must also be disclosed to an employee's representative under the provisions of 29 CFR 1960.29.

The DoD `Blanket Routine Uses' set forth at the beginning of the Army's compilation of systems of records notices also apply to this system.

Policies and practices for storing, retrieving, accessing, retaining, and disposing of records in the system:

Storage:

Paper records in file folder and electronic storage media.

Retrievability:

Data from accident prevention studies is retrieved by name, Social Security Number (SSN), age, or gender. Accident and incident case records are retrieved by date of incident, location of incident, or type of equipment involved.

Safeguards:

Paper records are maintained in locked file cabinets. Information is accessible only by authorized personnel with appropriate clearance/access in the performance of their duties. Remote terminal accessible only by authorized personnel.

At USACE and USACHPPM the computer stored records are secured behind security doors, accessible only by authorized personnel provided password access.

Retention and disposal:

Accident and incident case records and aviation accident and incident case records maintain for 5 years then destroy, except for: U.S. Army Safety Center and U.S. Army Corps of Engineers maintain for 30 years in current file area then destroy; Office of Corps of Engineers records created prior to 1 January 1982 maintain for 30 years then destroy. Environmental restoration reports are maintained for 50 years then destroyed (5 years in current file area then transferred to records holding area). Reports of artillery mis-firings or accidents and harmful chemical, biological and radiological exposures accumulated in combat or combat support elements are permanent.

System manager(s) and address:

Commander, U.S. Army Safety Center, 4905 5th Avenue, Fort Rucker, AL 36362-5363.

Commander, U.S. Army Center for Health Promotion and Preventive Medicine, 5158 Blackhawk Road, Aberdeen Proving Ground, MD 21010-5403.

Chief, Safety and Occupational Health Office, Headquarters, U.S. Army Corps of Engineers, 441 G Street NW., Washington, DC 20314-1000.

Notification procedure:

Individuals seeking to determine whether information about themselves is contained in this system should address written inquiries to the appropriate system manager.

Individual must furnish his/her full name, Social Security Number (SSN), current address and telephone number, when and where the accident occurred, type of equipment involved in the accident, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Record Access Procedures:

Individuals seeking access to information about themselves contained in this system should address written inquiries to the appropriate system manager.

Individual must furnish his/her full name, Social Security Number (SSN), current address and telephone number, when and where the accident occurred, type of equipment involved in the accident, and signature.

In addition, the requester must provide a notarized statement or an unsworn declaration made in accordance with 28 U.S.C. 1746, in the following format:

If executed outside the United States: `I declare (or certify, verify, or state) under penalty of perjury under the laws of the United State of America that the foregoing is true and correct. Executed on (date). (Signature)'.

If executed within the United States, its territories, possessions, or commonwealths: `I declare (or certify, verify, or state) under penalty of perjury that the foregoing is true and correct. Executed on (date). (Signature)'.

Contesting record procedures:

The Army's rules for accessing records, and for contesting contents and appealing initial agency determinations are contained in Army Regulation 340-21; 32 CFR part 505; or may be obtained from the system manager.

Record source categories:

Records and reports of accident, injury, fire, morbidity, law enforcement, traffic accident investigations, vehicle accident reports, and marine accident/casualty reports, individual sick clips, and military aviation records/reports.

Exemptions claimed for the system:

None.

[FR Doc. 2010-14255 Filed 6-14-10; 8:45 am]

BILLING CODE 5001-06-P